DEPARTMENT OF JUSTICE

Notice of Lodging of Proposed Consent Decree Under the Clean Air Act

On April 24, 2018, the Department of Justice lodged a proposed consent decree with the United States District Court for the Western District of Pennsylvania in the lawsuit entitled United States of America, et al. v. MarkWest Liberty Midstream & Resources, LLC, et al., Civil Action No. 2:18-cv-00520-LPL.

The lawsuit seeks injunctive relief and civil penalties for violations of the Clean Air Act and Pennsylvania's and Ohio's federally-approved State Implementation Plans (“SIPs”) at Defendants' MarkWest Liberty Midstream & Resources LLC and Ohio Gathering Company, LLC compressor stations and stand-alone pigging facilities in western Pennsylvania and eastern Ohio. The principal violations relate to alleged failures to obtain required permits, including, in some cases, Nonattainment New Source Review and Title V permits, to construct and operate.

The proposed decree requires Defendants to perform injunctive relief, pay a $610,000 civil penalty, and complete three Supplemental Environmental Projects and a Pennsylvania-only Community Environmental Project. Entering into and fully complying with the proposed consent decree will resolve Defendants' past civil liability at all covered facilities for various types of violations of the Clean Air Act and the Pennsylvania and Ohio SIPs.

The publication of this notice opens a period for public comment on the consent decree. Comments should be addressed to the Assistant Attorney General, Environment and Natural Resources Division, and should refer to United States, et al. v. MarkWest Liberty Midstream & Resources, LLC, D.J. Ref. No. 90-5-2-1-11374. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $26.00 (25 cents per page reproduction cost) payable to the United States Treasury.

Robert Brook,
Assistant Section Chief, Environmental Enforcement Section, Environment and Natural Resources Division.

[FR Doc. 2018-08944 Filed 4-26-18; 8:45 am]

BILLING CODE 4410-15-P